FEDERAL COMMUNICATIONS COMMISSION

47 CFR Part 54

[CC Docket No. 96-45; FCC 00-208]

Federal-State Joint Board on Universal Service: Promoting Deployment and Subscribership in Unserved and Underserved Areas, Including Tribal and Insular Areas

AGENCY: Federal Communications Commission.

ACTION: Final rule; announcement of effective date.

SUMMARY: This document announces the effective date of the rules adopted in the Tribal Order amending the Commission's universal service rules to provide additional, targeted support under the Commission's low-income programs to create financial incentives for eligible telecommunications carriers to serve, and deploy telecommunications facilities in, areas that previously may have been regarded as high risk and unprofitable. The document was published in the Federal Register on August 4, 2000. Some of the rules contained information collection requirements.

DATES: The amendments to 47 CFR 54.401(d), 54.403(a)(2), 54.403(a)(3), 54.403(a)(4)(ii), 54.405(b), 54.409(c), 54.411(d), and 54.415(c) published at 65 FR 47883 (August 4, 2000) are effective September 5, 2000.

FOR FURTHER INFORMATION CONTACT: Gene Fullano, Attorney, Common Carrier Bureau, Accounting Policy Division, (202) 418-7400.

SUPPLEMENTARY INFORMATION: On June 30, 2000, the Commission adopted in the Tribal Order, 65 FR 47883 (August 4, 2000), measures to promote telecommunications subscribership and infrastructure deployment within American Indian and Alaska Native tribal communities; to establish a framework for the resolution of eligible telecommunications carrier designation requests under section 214(e)(6) of the Telecom Act; and to apply the framework to pending petitions for designation as eligible telecommunications carriers. A summary was published in the Federal Register. See 65 FR 47883, August 4, 2000. Some of the rules contained information collection requirements. We stated that the “rules contain information collection requirements that have not been approved by the Office of Management and Budget (OMB). The Commission will publish a document in the Federal Register announcing the effective date of these sections.” The information collections were approved by OMB on July 31, 2000. See OMB Nos. 3060-0774 and 3060-0810. This publication satisfies our statement that the Commission would publish a document announcing the effective date of the rules. It also amends the Commission's universal service rules to provide additional, targeted support under the Commission's low-income programs to create financial incentives for eligible telecommunications carriers to serve, and deploy telecommunications facilities in, areas that previously may have been regarded as high risk and unprofitable.

List of Subjects in 47 CFR Part 54

Reporting and recordkeeping requirements, Telecommunications, Telephone.

Federal Communications Commission.
Magalie Roman Salas,
Secretary.

[FR Doc. 00-20789 Filed 8-15-00; 8:45 am]

BILLING CODE 6712-01-P